DEPARTMENT OF ENERGY

Federal Energy Regulatory Commission

Combined Notice of Filings

Take notice that the Commission has received the following Natural Gas Pipeline Rate and Refund Report filings:

Filings Instituting Proceedings

Docket Number: PR18-6-000.

Applicants: Southcross Transmission, LP.

Description: Tariff filing per 284.123(b)(2)+(g): Southcross Amended SOC 11-6-17 to be effective 12/1/2017; Filing Type: 1310.

Filed Date: 11/6/17.

Accession Number: 201711065288.

Comments Due: 5 p.m. ET 11/27/17.

284.123(g) Protests Due: 5 p.m. ET 1/5/18.

Docket Number: PR18-7-000.

Applicants: TPL SouthTex Transmission Company LP.

Description: Tariff filing per 284.123(b)(2)+(g): Petition for Rate Approval under Optional Notice Procedures to be effective 11/6/2017, Filing Type: 1310.

Filed Date: 11/6/17.

Accession Number: 201711065299.

Comments Due: 5 p.m. ET 11/27/17.

284.123(g) Protests Due: 5 p.m. ET 1/5/18.

Docket Number: PR18-8-000.

Applicants: Columbia Gas of Ohio, Inc.

Description: Tariff filing per 284.123(b),(e)/: COH Rates effective 10-27-2017; Filing Type: 980.

Filed Date: 11/13/17.

Accession Number: 201711135010.

Comments/Protests Due: 5 p.m. ET 12/4/17.

Docket Number: PR18-9-000.

Applicants: Columbia Gas of Maryland, Inc.

Description: Tariff filing per 284.123(b),(e)/: CMD Rates effective 10/27/17.; Filing Type: 980.

Filed Date: 11/13/17.

Accession Number: 201711135011.

Comments/Protests Due: 5 p.m. ET 12/4/17.

Docket Numbers: RP16-900-003.

Applicants: Kinetica Deepwater Express, LLC.

Description: Compliance filing Compliance Filing to be effective 6/1/2016.

Filed Date: 10/30/17.

Accession Number: 20171030-5129.

Comments Due: 5 p.m. ET 11/17/17.

Docket Numbers: RP18-157-000.

Applicants: Iroquois Gas Transmission System, L.P.

Description: § 4(d) Rate Filing: 111317 Negotiated Rates—Mercuria Energy America, Inc. H-7540-89 to be effective 11/10/2017.

Filed Date: 11/13/17.

Accession Number: 20171113-5216.

Comments Due: 5 p.m. ET 11/27/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2017.
Nathaniel J. Davis, Sr.,
Deputy Secretary.

[FR Doc. 2017-25153 Filed 11-20-17; 8:45 am]

BILLING CODE 6717-01-P